ENVIRONMENTAL PROTECTION AGENCY

[OPP-2004-0281; FRL-7681-1]

Pesticides and National Strategies for Health Care Providers; Notice of Funds Availability

AGENCY: Environmental Protection Agency (EPA).

ACTION: Notice.

SUMMARY: EPA's Office of Pesticide Programs (OPP) is soliciting proposals for financial assistance to support a continuing EPA national initiative to improve the training of health care providers in recognition, diagnosis, treatment, and prevention of pesticide poisonings among those who work with pesticides. OPP will establish cooperative agreements with two different organizations whose work collectively will cover a range of activities needed to improve the recognition and management of pesticide-related health conditions. Funded projects will focus on creating significant institutional change in health care providers' educational and practice settings through education, professional training, and the development of new resources and tools on pesticide-related health conditions. The total funding available for award in FY 2005, which represents funding set aside in FY2004, is expected to be approximately $265,000, with two cooperative agreements being awarded at $132,500 each. At the conclusion of the first 1 year period of performance and, based on the availability of future funding, incremental funding of up to $132,500 per cooperative agreement may be made available for each year, allowing the project to continue for a total of five periods of performance (approximately 5 years) and with a total potential funding of up to $1,325,000 for the 5-year period, depending on the need and the Agency's budget in outlying years.

DATES: Applications must be received by EPA on or before March 28, 2005.

ADDRESSES: Applications may be submitted by mail, fax, or electronically. Please follow the detailed instructions provided in Unit IV. of the SUPPLEMENTARY INFORMATION.

FOR FURTHER INFORMATION CONTACT: Allie Fields, Field and External Affairs Division (7506C), Office of Pesticide Programs, Environmental Protection Agency, 1200 Pennsylvania Ave., NW., Washington, DC 20460-0001; telephone number: (703) 305-7666; fax number: (703) 308-2962; e-mail address: fields.allie@epa.gov.

SUPPLEMENTARY INFORMATION: The following listing provides certain key information concerning the funding opportunity.

• Federal agency name: Environmental Protection Agency (EPA).

• Funding opportunity title: Pesticides and National Strategies for Health Care Providers.

• Funding opportunity number: OPP-003.

• Announcement type: The initial announcement of a funding opportunity.

• Catalog of Federal Domestic Assistance (CFDA) number: This program is included in the Catalog of Federal Domestic Assistance under number 66.607 at http://www.cfda.gov/public/whole.pdf.

• Dates: Applications must be received by EPA on or before March 28, 2005.

I. Funding Opportunity Description

A. Authority

EPA expects to enter into cooperative agreements under the authority provided in FIFRA section 20 which authorizes the Agency to issue grants or cooperative agreements for research, public education, training, monitoring, demonstration and studies. Regulations governing these cooperative agreements are found at 40 CFR part 30 for institutions of higher education, colleges and universities, and non-profit organizations; and 40 CFR part 31 for States and local governments. In addition, the provisions in 40 CFR part 32, governing government wide debarment and suspension; and the provisions in 40 CFR part 34, regarding restrictions on lobbying apply. All costs incurred under this program must be allowable under the applicable OMB Cost Circulars: A-87 (States and local governments), A-122 (nonprofit organizations), or A-21 (universities). Copies of these circulars can be found at http://www.whitehouse.gov/omb/circulars/. In accordance with EPA policy and the OMB circulars, as appropriate, any recipient of funding must agree not to use assistance funds for lobbying, fund-raising, or political activities (e.g., lobbying members of Congress or lobbying for other Federal grants, cooperative agreements, or contracts). See 40 CFR part 34.

B. Program Description

1. Purpose and scope. The cooperative agreements awarded under this program are intended to provide financial assistance for continuation of EPA's national initiative to improve the training of health care providers in recognition, diagnosis, treatment, and prevention of pesticide poisonings among those who work with pesticides. Given that health professionals are educated and trained in different settings, EPA seeks to fund two different organizations whose work collectively will cover a range of activities needed to improve the recognition and management of pesticide-related health conditions. One organization will work with decision-makers and faculty at academic institutions and professional associations/organizations to create institutional change in educational settings (e.g., medical schools, nursing schools, residency and practicum programs) so that students in the health professions are prepared to recognize, manage, and prevent pesticide-related health conditions across the United States. The other organization will work directly with health care providers to change the practice of primary care so that pesticide-related health conditions are recognized, effectively managed, and prevented in practice settings (e.g., private practices, migrant clinics, community clinics, hospitals, workplace clinics).

Under these two new cooperative agreements, projects will be considered that focus on the macro level, to engender changes in the professions, as well as those that focus on the micro level, to implement professional change in the field setting. Experience and expertise with working with professional associations and decision-making bodies that represent and/or influence educational and practice settings will be critical to the success of this program for macro level projects. Experience in field settings will be critical to the success of this program for micro level projects. More importantly, the ability to work directly with the medical community, particularly those with expertise in pesticide poisoning recognition and treatment and occupational medicine, will be essential for implementing this program.

2. Activities to be funded. Two cooperative agreements will be established: educational and practice.

i. Educational. Educational activities will target the educational settings in which health care providers are educated. Key activities to be funded under the educational cooperative agreement are as follows:

• Organize strategic meetings with decision-makers and faculty at educational institutions and professional associations to communicate the need to incorporate pesticide education and awareness into educational and practice settings.

• Design and implement methods of integration of the pesticide education core competencies into educational and practice settings.

• Develop and provide access (through training, continuing education, website, etc.) to relevant resources and tools to teach occupational health and safety, with a pesticide focus, to current and future health care providers.

• Develop and test an education model that incorporate pesticide education core competencies into the curriculum.

• Evaluate and promote the use of an education model across a wide-range of educational settings.

ii. Practice. Practice activities will target the practice settings in which a provider works and participates in professional development. Key activities to be funded under the practice cooperative agreement are as follows:

• Organize strategic meetings with primary health care providers, health care clinic, and other health care delivery systems to communicate the need to incorporate pesticide education and awareness into practice settings.

• Design and implement methods of integration of the key practice skills required for health care providers to deal effectively with pesticide-related health conditions in the practice settings.

• Develop and provide access (through training, continuing education, website, etc.) to relevant resources and tools that health care providers need to deal effectively with pesticide-related health conditions.

• Develop and test a training model for primary health care providers that incorporates key practice skills for recognition and treatment of pesticide poisonings.

• Evaluate and promote the use of a training model for health care providers across a wide-range of practice settings.

This program will further Agency efforts under the Federal, Insecticide, Fungicide, and Rodenticide Act (FIFRA), (7 U.S.C. 136w) to reduce the risk of pesticide poisonings and injuries among agricultural workers, handlers of agricultural pesticides, and the public by providing essential training to health care providers on how to recognize, diagnose, treat, and prevent pesticide-related health conditions more effectively.

3. Goal and objectives. The goal of these cooperative agreements is to continue EPA's national initiative to improve the training of health care providers in recognition, diagnosis, treatment, and prevention of pesticide poisonings among those who work with pesticides. The objectives of these cooperative agreements are:

i. To work with two different organizations whose work collectively will cover the wide spectrum of health care professionals that can create change in the educational and practice settings.

ii. To incorporate pesticide education core competencies into the curriculum of universities and schools that educate and train health care providers.

iii. To incorporate into clinical settings the key practice skills required for primary health care providers to deal effectively with pesticide-related health conditions.

iv. To develop and test models of integration of pesticide education core competencies and practice skills into educational and practice settings that can be utilized across the United States by health care providers.

4. History. The revised agricultural worker protection regulation, issued in 1992 and fully implemented in 1995, was designed to reduce pesticide exposure to agricultural workers, mitigate exposures that may occur, and inform agricultural employees about the hazards of pesticides. The regulation mandates that farmworkers and pesticide handlers be given pesticide safety training about the health effects of pesticide exposure and the need to get medical treatment for such effects.

In 1996, EPA held nine public meetings to evaluate the progress of worker protection regulation's implementation and to hear the experiences of the people most affected by the regulation. As a result of these meetings, EPA began to focus on the need to improve the recognition, diagnosis, and management of adverse health effects from pesticide exposures on the part of all primary care providers of the health care community.

In April 1998, EPA, in collaboration with several other federal agencies (Department of Health and Human Services, U.S. Department of Agriculture, and Department of Labor), convened a workshop of experts to identify strategies for educating health care providers on how to recognize, diagnose, manage, and prevent adverse health effects from pesticide exposures. The expert panel included representatives from professional health associations; farmworker and community interest organizations; migrant clinician's networks; academia; and pesticide experts. In addition, an invited group of observers from state and federal agencies, health clinics, community-based programs, farmer and farmworker groups, and other interested organizations participated in question and answer sessions with the expert panel. The results from this workshop include the establishment of the Federal Interagency Planning Committee; convening of three workgroups (Education, Practice, and Resource Workgroups); and the update and release of the 5th edition of “Recognition and Management of Pesticide Poisonings Manual (1999).”

In March 2003, the final “Implementation Plan for the National Strategies for Health Care Providers: Pesticide Initiative” was completed. The Implementation Plan sets out a three-prong strategy for improving the recognition, diagnosis, management, and prevention of pesticide-related health conditions by health care providers. The first prong addresses a provider's formal education. The second prong targets the practice setting in which a provider works and participates in professional development. The final prong articulates the resources and tools that providers need to deal effectively with pesticide-related health conditions in their practice and communities. Several activities outlined in the Implementation Plan have already been completed, including the convening of a national forum of health professionals to officially launch the Initiative and the publication of the “National Pesticide Competency Guidelines for Medical and Nursing Education and Practice.”

On January 23, 2004, the Pesticide Registration Improvement Act (PRIA) amended the Federal Insecticide, Fungicide, and Rodenticide Act (FIFRA). Under section 33(c)(3)(B), funding shall be used to enhance current scientific and regulatory activities related to worker protection.

II. Award Information

The funding for the selected award projects is in the form of a cooperative agreement awarded under FIFRA section 20. Cooperative agreements will be formed with two different organizations. The total funding available for award in FY 2005 is expected to be approximately $265,000, with two cooperative agreements being awarded $132,500 each.

1. Educational Cooperative Agreement. The total funding available for this award in FY 2005 represents funding set aside in FY2004 and is expected to be approximately $132,500. At the conclusion of the first 1 year period of performance, incremental funding of up to $132,500 may be made available for each subsequent year, depending on need and the Agency budget in outlying years which would allow the projects to continue for a total of five periods of performance (approximately 5 years) and totaling up to $662,500 for the 5-year period.

2. Practice Cooperative Agreement. The total funding available for this award in FY 2005 represents funding set aside in FY2004 and is expected to be approximately $132,500. At the conclusion of the first 1 year period of performance, incremental funding of up to $132,500 may be made available for each subsequent year, depending on need and the Agency budget in outlying years which would allow the projects to continue for a total of five periods of performance (approximately 5 years) and totaling up to $662,500 for the 5-year period.

Should additional funding become available for award, based on the Agency budget in those outlying years, the Agency may make available additional funds under the cooperative agreement granted based on the solicitation and in accordance with the final selection process, without further notice of competition during the first year after the competition award.

III. Eligibility Information

1. Threshold eligibility factors. To be eligible for consideration, applicants must meet all of the following criteria. Failure to meet the following criteria will result in the automatic disqualification for consideration of the proposal for funding:

i. Be an applicant who is eligible to receive funding under this announcement, including states, U. S. territories or possessions, federally recognized Tribal governments and organizations, public and private universities and colleges, hospitals, laboratories, other public or private nonprofit institutions, and individuals. Non-profit organizations described in section 501(c)(4) of the Internal Revenue Code that engage in lobbying activities as defined in section 3 of the Lobbying Disclosure Action of 1995 are not eligible to apply. Eligible applicants may include: Agricultural, environmental, health, and educational organizations and agencies, colleges or universities, the Cooperative Extension Service, other public or non-profit agencies, authorities, institutions, organizations; individuals or other qualified entities working in agricultural science, technology, research, training, safety, education, and communications. Applicants with broad reaches into the diverse interests of the agricultural community, including farmworkers, farmworker families, pesticide handlers, health providers, growers, the Cooperative Extension Service, state, national and international agriculture, environment, labor and occupational health, rural and migrant health, education agencies are eligible.

ii. The proposal must address all of the qualifications in the high priority areas for consideration listed under Unit III.2.

iii. The proposal must address all of the activities to be funded for either the educational or practice cooperative agreement. The activities to be funded are listed under Unit I.B.2.

iv. The proposal must meet all format and content requirements contained in Unit IV.

v. The proposal must comply with the directions for submittal contained in this notice.

2. Eligibility criteria. Applicants must demonstrate ability, experience and/or expertise in the following high priority areas for consideration. Applicants will be evaluated on the following criteria:

i. Ability and experience in working with a wide range of health professionals in the practice settings and at educational institutions and professional associations. Applicants must demonstrate the ability to create a variety of fora within which representatives of professional associations, accrediting bodies, curriculum committees, etc., can advance the goals of EPA's Office of Pesticide Programs' health care providers initiative.

ii. Ability and experience in developing a methodological process for incorporating new information into an established system. Applicants must demonstrate the ability and experience to develop and implement methods for integrating the pesticide core competencies and key practice skills into a wide-range of educational and practice settings. This may include developing the necessary resources and tools for health professionals during training and/or practice.

iii. Experience and expertise in developing educational materials and methods of delivery. Applicants must demonstrate experience and expertise in developing, organizing, and making accessible educational materials about pesticides and pesticide-related health conditions. This may include developing a power point or web-based course on pesticide education, or designing a website where resources and tools are available for downloading.

iv. Ability and experience in working with pesticide experts and clinicians in occupational health and safety settings. Applicants must demonstrate the ability and experience with working with pesticide experts and clinicians in occupational health and safety settings to ensure the accuracy and practicality of educational materials developed.

v. Ability and experience in conducting a needs assessment of the target audience. Applicants must demonstrate the ability and experience to conduct a needs assessment to determine the most effective ways to reach health care providers through educational interventions, model programs, and resources.

vi. Ability to pilot test and evaluate new educational and practice models. Applicants must demonstrate the ability to develop, test, evaluate, and promote the use of an educational or training model that incorporates the pesticide core competencies and key practice skills into educational and practice settings.

vii. Knowledge of the Pesticide Registration Improvement Act (PRIA) specifically section 33(c)(3)(B), Worker Protection.

3. Cost sharing or matching. There are no cost share requirements for this project. However, matching funds are encouraged.

IV. Application and Submission Information

1. Address to request proposal package. Allie Fields, Field and External Affairs Division (7506C), Office of Pesticide Programs, Environmental Protection Agency, 1200 Pennsylvania Ave., NW., Washington, DC 20460-0001; telephone number: (703) 305-7666; fax number: (703) 308-2962; e-mail address: fields.allie@epa.gov.

2. Content and form of application submission. Proposals must be typewritten, in 12 point or larger print using 8.5 x 11 inch paper with minimum 1 inch horizontal and vertical margins. Pages must be numbered in order starting with the cover page and continuing through the appendices. One original and one electronic copy (e-mail or disk) is required.

All proposals must include:

• Completed Standard Form SF 424*, Application for Federal Assistance. Please include organization fax number and e-mail address. The application forms are available on line at http://www.epa.gov/ogd/grants/how_to_apply.htm.

• Completed Section B--Budget Categories, on page 1 of Standard Form SF 424A* (see allowable costs discussion below). Blank forms may be located at http://www.epa.gov/ogd/grants/how_to_apply.htm.

• Detailed itemization of the amounts budgeted by individual Object Class Categories (see allowable costs discussion below).

• Statement regarding whether this proposal is a continuation of a previously funded project. If so, please provide the assistance number and status of the current grant/cooperative agreement.

Executive Summary. The Executive Summary shall be a stand alone document, not to exceed one page, containing the specifics of what is proposed and what you expect to accomplish regarding measuring or movement toward achieving project goals. This summary should identify the measurable environmental results you expect including potential human health benefits.

Table of contents. A one page table listing the different parts of your proposal and the page number on which each part begins.

Proposal narrative. Includes Parts I-V as identified below (not to exceed 10 pages).

Part I--Project title. Self explanatory.

Part II--Objectives. A numbered list (1, 2, etc.) of concisely written project objectives, in most cases, each objective can be stated in a single sentence

Part III--Justification. For each objective listed in Part II, discuss the potential outcome in terms of human health, environmental and/or pesticide risk reduction.

Part IV--Approach and methods. Describe in detail how the program will be carried out. Describe how the system or approach will support the program goals.

Part V--Impact assessment. Please state how you will evaluate the success of the program in terms of measurable results. How and with what measures will humans be better protected as a result of the program. Quantifiable risk reduction measures should be described.

Appendices. These appendices must be included in the cooperative agreement proposal. Additional appendices are not permitted.

Timetable. A timetable that includes what will be accomplished under each of the objectives during the project and when completion of each objective is anticipated.

Major participants. List all affiliates or other organizations, educators, trainers, and others having a major role in the proposal. Provide name, organizational affiliation, or occupation and a description of the role each will play in the project. A brief resume (not to exceed two pages) should be submitted for each major project manager, educator, support staff, or other major participant.

3. Submission dates and times. You may submit an application through the mail, by fax, or electronically. Regardless of submission method, all applications must be received by EPA on or before March 28, 2005.

4. Intergovernmental Review. All applicants should be aware that formal requests for assistance (i.e., SF 424 and associated documentation) may be subject to intergovernmental review under Executive Order 12372, “Intergovernmental Review of Federal Programs.” Applicants should contact their state's single point of contact (SPOC) for further information. There is a list of these contacts at the following web site: http:/whitehouse.gov/omb/grants/spoc.html.

5. Funding restrictions. EPA grant funds may only be used for the purposes set forth in the cooperative agreement, and must be consistent with the statutory authority for the award. Cooperative agreement funds may not be used for matching funds for other Federal grants, lobbying, or intervention in Federal regulatory or adjudicatory proceedings. In addition, Federal funds may not be used to sue the Federal government or any other governmental entity. All costs identified in the budget must conform to applicable Federal Cost Principles contained in OMB Circular A-87; A-122; and A-21, as appropriate.

6. Other submission requirements. As indicated above, each application must include the original paper copy of the submission, along with one electronic copy. The electronic copy of your application package, whether submitted separately by e-mail or on a disk, please ensure that the electronic copy is consolidated into a single file, and that you use Word Perfect WP8/9 for Windows, or Adobe PDF 4/5. If mailing a disk, please use a 3.5 disk that is labeled as a proposal for the Pesticides and National Strategies for Health Care Providers, and include your pertinent information. Please check your electronic submissions to ensure that it does not contain any computer viruses.

Submit your application using one of the following methods:

By mail to: Allie Fields, Office of Pesticide Programs, Mail code: 7506C, Environmental Protection Agency, 1200 Pennsylvania Ave., NW., Washington, DC 20460.

By fax to: Allie Fields at fax number: (703) 308-2962.

By e-mail to: fields.allie@epa.gov.

7. Confidential business information. Applicants should clearly mark information contained in their proposal which they consider confidential business information. EPA reserves the right to make final confidentially decisions in accordance with Agency regulations at 40 CFR part 2, subpart B. If no such claim accompanies the proposal when it is received by EPA, it may be made available to the public by EPA without further notice to the applicant.

V. Application Review Information

Applicants will be screened to ensure that they meet all eligibility criteria and will be disqualified if they do not meet all eligibility criteria. The proposals will be evaluated by an EPA Review Panel and selected according to the evaluation criteria listed below. The corresponding points next to each criterion are the weights EPA will use to evaluate the applications. Please note that certain sections are given greater weight than others. Each application will be ranked based on the following evaluation criteria (Total: 100 points):

1. Technical qualifications and overall management plan. Proposals should provide complete information on the education, skills, training, and relevant experience of the project leader and/or other key managers. As appropriate, please cite technical qualifications and specific examples of prior, relevant experience. The application must clearly demonstrate the ability and experience to work with a wide range of health professionals in the practice and educational settings, as outlined in Unit III.2. The proposal must also address the systems of accountability and management oversight that are in place to ensure projects stay on track. (Weight: 30 points)

2. Project goals and implementation plan. Proposals should clearly outline measurable goals, objectives, and specific tasks that will be undertaken to improve the recognition, diagnosis, management, and prevention of pesticide-related health conditions by health care providers. This includes describing implementation strategies for incorporating new information into established systems, developing and providing access to educational materials, conducting a needs assessment, and pilot testing new educational and practice models. (Weight: 40 points)

3. Clarity of the measures of success. All proposals should clearly state the key outputs of the proposed projects. In addition, it should be clearly stated how progress and success will be measured. Success of the project in terms of measurable environmental results should be described. (Weight: 20 points)

4. Budget. A detailed budget narrative demonstrating a clear link between resources and project objectives must be provided. If EPA funding for this project will be supplemented by other sources, please identify them. (Weight: 10 points)

The proposals will be reviewed and evaluated by a team of internal EPA Worker Protection and Pesticide Handler Certification and Training experts. The final funding decision will be made from a group of top rated proposals by the Chief of the Certification and Worker Protection Branch, Field and External Affairs Division, Office of Pesticide Programs. The Agency reserves the right to reject all proposals and make no awards. The procedures for dispute resolution at 40 CFR 30.63 and 40 CFR 31.70 apply.

VI. Award Administration Information

1. Award notices. The Certification and Worker Protection Branch in OPP will mail an acknowledgment to applicants upon receipt of the application. Once all of the applications have been reviewed, evaluated, and ranked, applicants will be notified of the outcome of the competition. A listing of the successful proposal will be posted on the Certification and Worker Protection website address at the conclusion of the competition (go to: http://www.epa.gov/pesticides/health/worker.htm). The website may also contain additional information about this announcement including information concerning deadline extensions or other modifications.

2. Administrative and national policy requirements. An applicant whose proposal is selected for Federal funding must complete additional forms prior to award (see 40 CFR 30.12 and 31.10), and will be required to certify that they have not been debarred or suspended from participation in Federal assistance awards in accordance with 40 CFR part 32. In addition, Applicants must comply with the Intergovernmental Review Process. Further information regarding this requirement will be provided if your proposal is selected for funding.

3. Reporting. The successful recipient will be required to submit quarterly and annual reports, and to submit annual financial reports. The specific information contained within the report will include at a minimum, a comparison of actual accomplishments to the objectives established for the period. The Certification and Worker Protection Branch may request additional information relative to the scope of work in the cooperative agreement which may be useful for Agency reporting under the Government Performance and Results Act.

VII. Agency Contact

Allie Fields, Field and External Affairs Division (7506C), Office of Pesticide Programs, Environmental Protection Agency, 1200 Pennsylvania Ave., NW., Washington, DC 20460-0001; telephone number: (703) 305-7666; fax number: (703) 308-2962; e-mail address:fields.allie@epa.gov.

VIII. Other Information

A. Does this Action Apply to Me?

This action is directed to the public in general. Assistance is generally available to states, U. S. territories or possessions, federally recognized Tribal governments and organizations, public and private universities and colleges, hospitals, laboratories, other public or private nonprofit institutions, and individuals. Non-profit organizations described in section 501(c)(4) of the Internal Revenue Code that engage in lobbying activities as defined in section 3 of the Lobbying Disclosure Action of 1995 are not eligible to apply. This program may, however, be of particular interest to agricultural, environmental, health, and educational organizations and agencies, colleges or universities, the Cooperative Extension Service and other public or non-profit agencies, authorities, institutions, organizations, individuals or other qualified entities working in agricultural science, technology, research, training, safety, education, and communications. Those entities with broad reaches into the diverse interests of the agricultural community, including farmworkers, farmworker families, pesticide handlers, health providers, growers, the Cooperative Extension Service, state, national and international agriculture, environment, labor and occupational health, rural and migrant health, education agencies may be interested in applying. Because others may also be interested, the Agency has not attempted to describe all the specific entities that may be interested by this action. If you have any questions regarding the applicability of this action to a particular entity, consult the person listed under FOR FURTHER INFORMATION CONTACT.

B. How Can I Access Copies of this Document and Other Related Information?

1. Docket. EPA has established an official public docket for this action under docket identification (ID) number OPP-2004-0281. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. An electronic version of the public docket is available through EPA's electronic public docket and comment system, EPA Dockets. You may use EPA Dockets at http://www.epa.gov/edocket/ to access the index listing of the contents of the official public docket, and to access those documents in the public docket that are available electronically. Although not all docket materials may be available electronically, you may still access any of the publicly available docket materials through the docket facility identified in Unit VIII.B.1. Once in the system, select “search,” then key in the appropriate docket ID number.

IX. Submission to Congress and the Comptroller General

Grant solicitations such as this are considered rules for the purpose of the Congressional Review Act (CRA) (5 U.S.C. 801 et seq.). The CRA generally provides that before a rule may take effect, the agency promulgating the rule must submit a rule report, which includes a copy of the rule, to each House of the Congress and to the Comptroller General of the United States. EPA will submit a report containing this grant solicitation and other required information to the U.S. Senate, the U.S. House of Representatives, and the Comptroller General of the United States prior to its publication in the Federal Register. This rule is not a “major rule” as defined by 5 U.S.C. 804(2).

List of Subjects

Environmental protection, Grants, Pesticides, Training.

Dated: January 31, 2005.
Susan B. Hazen,
Acting Assistant Administrator, Office of Prevention, Pesticides and Toxic Substances.

[FR Doc. 05-2509 Filed 2-8-05; 8:45 am]

BILLING CODE 6560-50-S